DEPARTMENT OF JUSTICE

Drug Enforcement Administration

[Docket No. DEA-392]

Manufacturer of Controlled Substances Registration: Cayman Chemicals Company

ACTION: Notice of registration.

SUMMARY: Cayman Chemicals Company applied to be registered as a manufacturer of certain basic classes of controlled substances. The Drug Enforcement Administration (DEA) grants Cayman Chemicals Company registration as a manufacturer of those controlled substances.

SUPPLEMENTARY INFORMATION: By notice dated April 14, 2015, and published in the Federal Register on April 22, 2015, 80 FR 22557, Cayman Chemicals Company, 1180 East Ellsworth Road, Ann Arbor, Michigan 48108 applied to be registered as a manufacturer of certain basic classes of controlled substances. No comments or objections were submitted for this notice.

The DEA has considered the factors in 21 U.S.C. 823(a) and determined that the registration of Cayman Chemicals Company to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of controlled substances listed:

Controlled substance | Schedule
3-Fluoro-N-methylcathinone (3-FMC) (1233) | I
Cathinone (1235) | I
Methcathinone (1237) | I
4-Fluoro-N-methylcathinone (4-FMC) (1238) | I
Pentedrone (α-methylaminovalerophenone (1246) | I
Mephedrone (4-Methyl-N-methylcathinone (1248) | I
4-Methyl-N-ethylcathinone (4-MEC) (1249) | I
Naphyrone (1258) | I
N-Ethylamphetamine (1475) | I
N,N-Dimethylamphetamine (1480) | I
Aminorex (1585) | I
4-Methylaminorex (cis isomer) (1590) | I
Gamma Hydroxybutyric Acid (2010) | I
JWH-250 (1-Pentyl-3-(2-methoxyphenylacetyl) indole) (6250) | I
SR-18 (Also known as RCS-8) (1-Cyclohexylethyl-3-(2-methoxyphenylacetyl) indole) (7008) | I
5-Flouro-UR-144 and XLR11 [1-(5-Fluoro-pentyl) 1H-indol-3-yl] (2,2,3,3-tetramethylcyclopropyl) methanone (7011) | I
AB-FUBINACA (N-(1-amino-3-methyl-1-oxobutan-2-yl)-1-(4-fluorobenzyl)-1H-indazole-3-carboxamide) (7012) | I
JWH-019 (1-Hexyl-3-(1-naphthoyl) indole) (7019) | I
ADB-PINACA (N-(1-amino-3,3-dimethyl-1-oxobutan-2-yl)-1-pentyl-1H-indazole-3-carboxamide) (7035) | I
APINACA and AKB48 N-(1-Adamantyl)-1-pentyl-1H-indazole-3-carboxamide (7048) | I
JWH-081 (1-Pentyl-3-(1-(4-methoxynaphthoyl) indole) (7081) | I
SR-19 (Also known as RCS-4) (1-Pentyl-3-[(4-methoxy)-benzoyl] indole) (7104) | I
JWH-018 (also known as AM678) (1-Pentyl-3-(1-naphthoyl) indole) (7118) | I
JWH-122 (1-Pentyl-3-(4-methyl-1-naphthoyl) indole) (7122) | I
UR-144 (1-Pentyl-1H-indol-3-yl)(2,2,3,3-tetramethylcyclopropyl)methanone (7144) | I
JWH-073 (1-Butyl-3-(1-naphthoyl)indole (7173) | I
JWH-200 (1-[2-(4-Morpholinyl)ethyl]-3-(1-naphthoyl) indole) (7200) | I
AM-2201 (1-(5-Fluoropentyl)-3-(1-naphthoyl) indole) (7201) | I
JWH-203 (1-Pentyl-3-(2-chlorophenylacetyl) indole) (7203) | I
PB-22 (Quinolin-8-yl 1-pentyl-1H-indole-3-carboxylate) (7222) | I
5F-PB-22 (Quinolin-8-yl 1-(5-fluoropentyl)-1H-indole-3-carboxylate) (7225) | I
Alpha-ethyltryptamine (7249) | I
CP-47,497 (5-(1,1-Dimethylheptyl)-2-[(1R,3S)-3-hydroxycyclohexyl-phenol) (7297) | I
CP-47,497 C8 Homologue (5-(1,1-Dimethyloctyl)-2-[(1R,3S) 3-hydroxycyclohexyl-phenol) (7298) | I
Lysergic acid diethylamide (7315) | I
2,5-Dimethoxy-4-(n)-propylthiophenethylamine (2C-T-7) (7348) | I
Marihuana (7360) | I
Tetrahydrocannabinols (7370) | I
Mescaline (7381) | I
2-(4-Elthylthio-2,5-dimethoxyphenyl) ethanamine (2C-T-2) (7385) | I
3,4,5-Trimethoxyamphetamine (7390) | I
4-Bromo-2,5-dimethoxyamphetamine (7391) | I
4-Bromo-2,5-dimethoxyphenethylamine (7392) | I
4-Methyl-2,5-dimethoxyamphetamine (7395) | I
2,5-Dimethoxyamphetamine (7396) | I
JWH-398 (1-Pentyl-3-(4-chloro-1-naphthoyl) indole) (7398) | I
2,5-Dimethoxy-4-ethylamphetamine (7399) | I
3,4-Methylenedioxyamphetamine (7400) | I
5-Methoxy-3,4-methylenedioxyamphetamine (7401) | I
N-Hydroxy-3,4-methylenedioxyamphetamine (7402) | I
3,4-Methylenedioxy-N-ethylamphetamine (7404) | I
3,4-Methylenedioxymethamphetamine (7405) | I
4-Methoxyamphetamine (7411) | I
5-Methoxy-N-N-dimethyltryptamine (7431) | I
Alpha-methyltryptamine (7432) | I
Bufotenine (7433) | I
Diethyltryptamine (7434) | I
Dimethyltryptamine (7435) | I
Psilocybin (7437) | I
Psilocyn (7438) | I
5-Methoxy-N,N-diisopropyltryptamine (7439) | I
N-Benzylpiperazine (7493) | I
4-Methyl-alphapyrrolidinopropiophenone (4-MePPP) (7498) | I
2-(2,5-Dimethoxy-4-methylphenyl) ethanamine (2C-D) (7508) | I
2-(2,5-Dimethoxy-4-ethylphenyl) ethanamine(2C-E) (7509) | I
2-(2,5-Dimethoxyphenyl) ethanamine (2C-H) (7517) | I
2-(4-lodo-2,5-dimethoxyphenyl) ethanamine (2C-I) (7518) | I
2-(4-Chloro-2,5-dimethoxyphenyl) ethanamine (2C-C) (7519) | I
2-(2,5-Dimethoxy-4-nitro-phenyl) ethanamine (2C-N) (7521) | I
2-(2,5-Dimethoxy-4-(n)-propylphenyl) ethanamine (2C-P) (7524) | I
2-(4-Isopropylthio)-2,5-dimethoxyphenyl) ethanamine (2C-T-4) (7532) | I
MDPV (3,4-Methylenedioxypyrovalerone) (7535) | I
Methylone (3,4-Methylenedioxy-N-methylcathinone) (7540) | I
Butylone (7541) | I
Pentylone (7542) | I
alpha-pyrrolidinopentiophenone (α-PVP) (7545) | I
alpha-pyrrolidinobutiophenone (α-PBP) (7546) | I
AM-694 (1-(5-Fluoropentyl)-3-(2-iodobenzoyl) indole) (7694) | I
Desomorphine (9055) | I
Oxycodone (9143) | II
Dihydromorphine (9145) | I
Heroin (9200) | I
Morphine-N-oxide (9307) | I
Normorphine (9313) | I
Tilidine (9750) | I
Amphetamine (1100) | II
Methamphetamine (1105) | II
Lisdexamfetamine (1205) | II
Pentobarbital (2270) | II
Phencyclidine (7471) | II
Phenylacetone (8501) | II
Codeine (9050) | II
Dihydrocodeine (9120) | II
Oxycodone (9143) | II
Hydromorphone (9150) | II
Hydrocodone (9193) | II
Levomethorphan (9210) | II
Meperidine (9230) | II
Meperidine intermediate-B (9233) | II
Methadone (9250) | II
Dextropropoxyphene, bulk (non-dosage forms) (9273) | II
Morphine (9300) | II
Thebaine (9333) | II
Oxymorphone (9652) | II
Sufentanil (9740) | II

The company plans to manufacture reference standards for distribution to their research and forensics customers.

In reference to drug codes 7360 Marihuana, and 7370 (THC), the company plans to bulk manufacture these drugs as synthetic. No other activities for these drug codes are authorized for this registration.

Dated: July 29, 2015.
Joseph T. Rannazzisi,
Deputy Assistant Administrator.

[FR Doc. 2015-19163 Filed 8-3-15; 8:45 am]

BILLING CODE 4410-09-P